NATIONAL CAPITAL PLANNING COMMISSION

Notice of Public Comment Period and Public Meeting on the Transportation Element of the Comprehensive Plan for the National Capital

AGENCY: National Capital Planning Commission.

ACTION: Notice of 60-Day public comment period and public meeting.

SUMMARY: The National Capital Planning Commission (NCPC) has released a draft of the Transportation Element of the Comprehensive Plan for the National Capital: Federal Elements for public review. The element establishes policies to support a regional multimodal transportation system that promotes responsible land use and development and contributes to a high quality of life for residents, workers, and visitors. The draft Transportation Element is available online for review at https://www.ncpc.gov/initiatives/transportation.

DATES: The public comment period closes November 12, 2019.

ADDRESSES: Written public comments on the draft may be submitted by either method:

1. U.S. mail, courier, or hand deliver: Transportation Element Public Comment, National Capital Planning Commission, 401 9th Street NW, Suite 500N, Washington, DC 20004.

2. Electronically: https://www.ncpc.gov/initiatives/transportation.

FOR FURTHER INFORMATION CONTACT: Jennifer Hirsch at (202) 482-7239 or info@ncpc.gov.

SUPPLEMENTARY INFORMATION:

Public Meeting: NCPC will host an open house event for the public to learn more about the Element. The open house will be on October 7, 2019 from 6:00 p.m. to 7:30 p.m. The meeting will be held at NCPC, 401 9th Street NW, Suite 500N, Washington, DC 20004

Authority: 40 U.S.C. 8721(e)(2).

Dated: September 6, 2019.
Anne R. Schuyler,
General Counsel.

[FR Doc. 2019-19628 Filed 9-10-19; 8:45 am]

BILLING CODE 7502-02-P